DEPARTMENT OF JUSTICE

[OMB Number 1140-0076]

Agency Information Collection Activities; Proposed eCollection eComments Requested; Application for Restoration of Explosives Privileges

AGENCY: Bureau of Alcohol, Tobacco, Firearms and Explosives, Department of Justice.

ACTION: 30-Day notice.

SUMMARY: The Bureau of Alcohol, Tobacco, Firearms and Explosives (ATF), Department of Justice (DOJ), will be submitting the following information collection request to the Office of Management and Budget (OMB) for review and approval in accordance with the Paperwork Reduction Act of 1995. The proposed information collection was previously published in the Federal Register, on July 6, 2023, allowing a 60-day comment period.

DATES: Comments are encouraged and will be accepted for 30 days until October 16, 2023.

FOR FURTHER INFORMATION CONTACT: If you have comments especially on the estimated public burden or associated response time, suggestions, or need a copy of the proposed information collection instrument with instructions or additional information, please contact: Laura O'Lena, by email at FROD@atf.gov, or by telephone at 256-261-7640.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1140-0076. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection:

1. Type of Information Collection: Revision of a previously approved collection.

2. Title of the Form/Collection: Application for Restoration of Explosives Privileges.

3. Agency form number, if any, and the applicable component of the Department of Justice sponsoring the collection: ATF Form 5400.29.

Component: Bureau of Alcohol, Tobacco, Firearms and Explosives, U.S. Department of Justice.

4. Affected public who will be asked or required to respond, as well as a brief abstract: Affected Public: Individuals or households, Private sector—business or other for-profit.

Abstract: Persons who wish to ship, transport, receive, or possess explosive materials, but are prohibited from doing so, will complete this form. The form will be submitted to ATF to determine whether the person who provided the information is likely to act in a manner dangerous to public safety and that the granting of relief is not contrary to the public interest. The information collection (IC) OMB #1140-0076 is being revised due to minor material changes to the form, such as adding instruction clarification and “month/year” (to block (b) and (c) of item 9 and block (c) and (d) of item 10).

5. Obligation to Respond: The obligation to respond is required to obtain/retain a benefit under 27 CFR, part 555.

6. Total Estimated Number of Respondents: 300 respondents.

7. Estimated Time per Respondent: 30 minutes.

8. Frequency: Once annually.

9. Total Estimated Annual Time Burden: 150 hours.

10. Total Estimated Annual Other Costs Burden: ATF estimates the cost to individuals impacted will be $9,789 collectively.

If additional information is required, contact: Darwin Arceo, Department Clearance Officer, Policy and Planning Staff, Justice Management Division, United States Department of Justice, Two Constitution Square, 145 N Street NE, 4W-218 Washington, DC 20530.

Dated: September 11, 2023.
Darwin Arceo,
Department Clearance Officer for PRA, U.S. Department of Justice.

[FR Doc. 2023-19942 Filed 9-14-23; 8:45 am]

BILLING CODE 4410-14-P